DEPARTMENT OF TRANSPORTATION

Federal Aviation Administration

14 CFR Part 39

[Docket No. FAA-2011-0475; Directorate Identifier 2010-NM-199-AD; Amendment 39-18137; AD 2015-08-01]

RIN 2120-AA64

Airworthiness Directives; The Boeing Company Airplanes

AGENCY: Federal Aviation Administration (FAA), DOT.

ACTION: Final rule.

SUMMARY: We are adopting a new airworthiness directive (AD) for certain The Boeing Company Model 757-200, -200PF, -200CB, and -300 series airplanes. This AD was prompted by numerous reports of unintended lateral oscillations during final approach, just before landing. This AD requires, depending on airplane configuration, installing new relays and bracket assemblies, inspecting to ensure that the new relays do not contact adjacent wire bundles, torquing the bracket assembly installation nuts and ground stud nuts, doing bond resistance tests between the bracket assemblies and the terminal lugs on the ground studs, and related investigative and corrective actions if necessary. We are issuing this AD to reduce the chance of unintended lateral oscillations near touchdown, which could result in loss of lateral control of the airplane, and consequent airplane damage or injury to flightcrew and passengers.

DATES: This AD is effective May 26, 2015.

The Director of the Federal Register approved the incorporation by reference of certain publications listed in this AD as of May 26, 2015.

ADDRESSES: For service information identified in this AD, contact Boeing Commercial Airplanes, Attention: Data & Services Management, P. O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA 2011-0475.

Examining the AD Docket

You may examine the AD docket on the Internet at http://www.regulations.gov by searching for and locating Docket No. FAA-2011-0475; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Jeffrey Palmer, Aerospace Engineer, Systems and Equipment Branch, ANM-130L, Los Angeles Aircraft Certification Office (ACO), FAA, 3960 Paramount Boulevard, Lakewood, CA 90712-4137; phone: 562-627-5351; fax: 562-627-5210; email: jeffrey.w.palmer@faa.gov.

SUPPLEMENTARY INFORMATION:

Discussion

We issued a supplemental notice of proposed rulemaking (SNPRM) to amend 14 CFR part 39 by adding an AD that would apply to certain The Boeing Company Model 757-200, -200PF, -200CB, and -300 series airplanes. The SNPRM published in the Federal Register on July 1, 2014 (79 FR 37239). We preceded the SNPRM with a notice of proposed rulemaking (NPRM) that published in the Federal Register on May 24, 2011 (76 FR 30043). The NPRM proposed to require, for certain airplanes, installing new relays adjacent to two of the spoiler control modules. For certain other airplanes, the NPRM proposed to require torquing the bracket assembly installation nuts and ground stud nuts, and doing bond resistance tests between the bracket assemblies and the terminal lugs on the ground studs. The NPRM was prompted by numerous reports of unintended lateral oscillations during final approach, just before landing. In addition to the actions proposed in the NPRM, the SNPRM proposed to require installing three new relays on the opposite side of the same relay bracket assembly; and for certain airplanes, doing an additional inspection to ensure that the three new relays do not contact adjacent wire bundles, and related investigative and corrective actions if necessary. We are issuing this AD to reduce the chance of unintended lateral oscillations near touchdown, which could result in loss of lateral control of the airplane, and consequent airplane damage or injury to flightcrew and passengers.

Comments

We gave the public the opportunity to participate in developing this AD. The following presents the comments received on the SNPRM (79 FR 37239, July 1, 2014) and the FAA's response to each comment.

Support for the SNPRM (79 FR 37239, July 1, 2014)

American Airlines (AAL) stated that it agrees with the intent of the SNPRM (79 FR 37239, July 1, 2014). Boeing stated that it agrees with the NPRM (76 FR 30043, May 24, 2011). We infer that Boeing's comment refers to the SNPRM.

Request To Withdraw the SNPRM (79 FR 37239, July 1, 2014)

United Airlines (United Engineering) requested data to justify the release of a new AD. United Engineering stated that it has not received any reports of pilot-induced oscillations since implementation of AD 2006-23-15, Amendment 39-14827 (71 FR 66657, November 16, 2006). United Engineering stated that AD 2006-23-15 requires, among other actions, installing a control wheel damper assembly and vortex generators (vortilons) on the leading edge of the outboard main flap. United Engineering also stated that the required work is extensive and that the impact to operations and the cost of this modification is considerable.

From these statements, we infer that United Engineering requested we withdraw the SNPRM (79 FR 37239, July 1, 2014). We do not agree with the commenter's request to withdraw the SNPRM. AD 2006-23-15, Amendment 39-14827 (71 FR 66657, November 16, 2006), was considered interim action. To effectively manage the risk, the FAA determined an interim action needed to be mandated to reduce the risk, while a solution that fully addresses the unsafe condition was identified and could be implemented.

The manufacturer has identified an additional modification that is needed to correct the unsafe condition identified in AD 2006-23-15. We have determined that this design change not only corrects the unsafe condition by removing excessive airplane roll authority during landing, but it will also improve safety by making the Model 757 handling characteristics more consistent with the other Boeing airplane models. Also, even though there have only been 12 reports of unintended lateral oscillations near touchdown, the FAA considers it likely that there may have been other events that have been unrecognized and/or unreported.

Finally, in developing the compliance time for this AD, we did consider not only the safety implications of the identified unsafe condition, but also the practical aspects of an orderly modification of the fleet including the work required and the impact on operations. We have determined that it is necessary to proceed with this AD action.

Request To Delay Final Rule Pending Revised Service Information

AAL requested that we delay this final rule until Boeing releases Boeing Service Bulletin 757-27A0152, Revision 4. AAL noted that Boeing intended to release Boeing Service Bulletin 757-27A0152, Revision 4, which would address its concerns regarding certain procedures and figures in Boeing Service Bulletin 757-27A0152, Revision 1, Dated June 30, 2010.

Since the issuance of the SNPRM (79 FR 37239, July 1, 2014), Boeing has issued Service Bulletin 757-27A0152, Revision 4, dated August 26, 2014. We have revised this AD to incorporate Boeing Service Bulletin 757-27A0152, Revision 4, dated August 26, 2014, as an appropriate source of service information for accomplishing the actions required by this AD. This service bulletin includes a change to a footnote listed in Figures 15, 16, 17, 19, and 21; this footnote addresses AAL's concerns regarding certain procedures and figures in Boeing Service Bulletin 757-27A0152, Revision 1, dated June 30, 2010. Boeing Service Bulletin 757-27A0152, Revision 4, dated August 26, 2014, states that no more work is necessary on airplanes changed in accordance with Boeing Service Bulletin 757-27A0152, Revision 2, dated May 25, 2012; or Boeing Service Bulletin 757-27A0152, Revision 3, dated October 28, 2013.

We have changed paragraphs (c) and (g) of this AD to reference Boeing Service Bulletin 757-27A0152, Revision 3, dated October 28, 2013, as revised by Boeing Service Bulletin 757-27A0152, Revision 4, dated August 26, 2014.

Effect of Winglets on AD

Aviation Partners Boeing stated that the installation of winglets per Supplemental Type Certificate (STC) ST01518SE (http://rgl.faa.gov/Regulatory_and_Guidance_Library/rgstc.nsf/0/312bc296830a925c86257c85006d1b1f/$FILE/ST01518SE.pdf) does not affect the accomplishment of the manufacturer's service instructions. No change is necessary to this AD in this regard.

Related Service Information Under 1 CFR Part 51

We reviewed Boeing Service Bulletin 757-27A0152, Revision 3, dated October 28, 2013, which describes procedures for installing new relays; inspecting to ensure that the new relays do not contact adjacent wire bundles, and related investigative and corrective actions if necessary; torquing the bracket assembly installation nuts and ground stud nuts; and doing bond resistance tests between the bracket assemblies and the terminal lugs on the ground studs.

We have also reviewed Boeing Service Bulletin 757-27A0152, Revision 4, dated August 26, 2014, which provides some revised text in footnotes of certain figures.

This service information is reasonably available because the interested parties have access to it through their normal course of business or by the means identified in the ADDRESSES section of this AD.

Conclusion

We reviewed the relevant data, considered the comments received, and determined that air safety and the public interest require adopting this AD with the changes described and minor editorial changes. We have determined that these minor changes:

• Are consistent with the intent that was proposed in the SNPRM (79 FR 37239, July 1, 2014) for correcting the unsafe condition; and

• Do not add any additional burden upon the public than was already proposed in the SNPRM (79 FR 37239, July 1, 2014).

We also determined that these changes will not increase the economic burden on any operator or increase the scope of this AD.

Costs of Compliance

We estimate that this AD affects 676 airplanes of U.S. registry.

We estimate the following costs to comply with this AD:

Estimated Costs
Action | Labor cost | Parts cost | Cost per product | Cost on U.S. operators
Installation Group 1, Configuration 1 (48 airplanes) | 36 work-hours × $85 per hour = $3,060 | $4,691 | $7,751 | $372,048.
Installation Group 2, Configuration 1 (588 airplanes) | 33 work-hours × $85 per hour = $2,805 | 4,610 | 7,415 | 4,360,020.
Installation Group 3, Configuration 1 (12 airplanes) | 33 work-hours × $85 per hour = $2,805 | 4,619 | 7,424 | 89,088.
Installation Group 4, Configuration 1 (24 airplanes) | 33 work-hours × $85 per hour = $2,805 | 4,610 | 7,415 | 177,960.
Installation Group 5, Configuration 1 (4 airplanes) | 36 work-hours × $85 per hour = $3,060 | 4,701 | 7,761 | 31,044.
Torque Bracket Assembly and Bond Tests Groups 1-5, Configuration 2 (Up to 676 airplanes) | 12 work-hours × $85 per hour = $1,020 | 0 | Up to $1,020 | Up to $689,520.
General Visual Inspection Groups 1-5, Configuration 3 (Up to 676 airplanes) | 7 work-hours × $85 per hour = $595 | 0 | Up to $595 | Up to $402,220.

We estimate the following costs to do any necessary repairs that would be required based on the results of the inspection. We have no way of determining the number of aircraft that might need these repairs:

On-Condition Costs
Action | Labor cost | Parts cost | Cost per product
Adjust Wire Bundle and Install Sleeve, Group 1-5, Configuration 1 | 1 work-hour × $85 per hour = $85 | $0 | $85
Inspection, Repair, and Installation Change, Group 1-5, Configuration 2 | 1 work-hour × $85 per hour = $85 | 0 | 85
Inspection, Repair, Installation Change, and Test, Group 1-5, Configuration 3 | 5 work-hours × $85 per hour = $425 | 0 | 425

We have received no definitive data that would enable us to provide cost estimates for the parts needed for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-08-01 The Boeing Company: Amendment 39-18137; Docket No. FAA-2011-0475; Directorate Identifier 2010-NM-199-AD.

(a) Effective Date

This AD is effective May 26, 2015.

(b) Affected ADs

None.

(c) Applicability

This AD applies to The Boeing Company Model 757-200, -200PF, -200CB, and -300 series airplanes; certificated in any category; as identified in Boeing Service Bulletin 757-27A0152, Revision 3, dated October 28, 2013, as revised by Boeing Service Bulletin 757-27A0152, Revision 4, dated August 26, 2014.

(d) Subject

Air Transport Association (ATA) of America Code 27, Flight Controls.

(e) Unsafe Condition

This AD was prompted by numerous reports of unintended lateral oscillations during the final approach, just before landing. We are issuing this AD to reduce the chance of unintended lateral oscillations near touchdown, which could result in loss of lateral control of the airplane, and consequent airplane damage or injury to flightcrew and passengers.

(f) Compliance

Comply with this AD within the compliance times specified, unless already done.

(g) Installation and Inspection

Within 60 months after the effective date of this AD, do the applicable actions specified in paragraph (g)(1), (g)(2), or (g)(3) of this AD.

(1) For Configuration 1 airplanes defined in Boeing Service Bulletin 757-27A0152, Revision 3, dated October 28, 2013, as revised by Boeing Service Bulletin 757-27A0152, Revision 4, dated August 26, 2014: Install three bracket assemblies and three new relays, and make changes to the wire bundles, in accordance with the Accomplishment Instructions of Boeing Service Bulletin 757-27A0152, Revision 3, dated October 28, 2013, as revised by Boeing Service Bulletin 757-27A0152, Revision 4, dated August 26, 2014.

(2) For Configuration 2 airplanes defined in Boeing Service Bulletin 757-27A0152, Revision 3, dated October 28, 2013, as revised by Boeing Service Bulletin 757-27A0152, Revision 4, dated August 26, 2014: Torque the bracket assembly nuts and ground stud nuts, do bond resistance tests to verify that bonding requirements are met, do a general visual inspection to ensure that the three new relays do not touch the adjacent wire bundles, and do all applicable related investigative and corrective actions, in accordance with the Accomplishment Instructions of Boeing Service Bulletin 757-27A0152, Revision 3, dated October 28, 2013, as revised by Boeing Service Bulletin 757-27A0152, Revision 4, dated August 26, 2014. Do all applicable related investigative and corrective actions before further flight.

(3) For Configuration 3 airplanes defined in Boeing Service Bulletin 757-27A0152, Revision 3, dated October 28, 2013, as revised by Boeing Service Bulletin 757-27A0152, Revision 4, dated August 26, 2014: Do a general visual inspection to ensure that the three new relays do not touch the adjacent wire bundles, and do all applicable related investigative and corrective actions, in accordance with the Accomplishment Instructions of Boeing Service Bulletin 757-27A0152, Revision 3, dated October 28, 2013, as revised by Boeing Service Bulletin 757-27A0152, Revision 4, dated August 26, 2014. Do all applicable related investigative and corrective actions before further flight.

(h) Credit for Previous Actions

This paragraph provides credit for actions required by paragraph (g) of this AD, if those actions were performed before the effective date of this AD using Boeing Service Bulletin 757-27A0152, Revision 2, dated May 25, 2012 (which is not incorporated by reference in this AD); or Boeing Service Bulletin 757-27A0152, Revision 3, dated October 28, 2013.

(i) Alternative Methods of Compliance (AMOCs)

(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j)(1) of this AD. Information may be emailed to: 9-ANM-LAACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Los Angeles ACO, to make those findings. For a repair method to be approved, the repair must meet the certification basis of the airplane and the approval must specifically refer to this AD.

(j) Related Information

(1) For more information about this AD, contact Jeffrey Palmer, Aerospace Engineer, Systems and Equipment Branch, ANM-130L, Los Angeles Aircraft Certification Office (ACO), FAA, 3960 Paramount Boulevard, Lakewood, CA 90712-4137; phone: 562-627-5351; fax: 562-627-5210; email: jeffrey.w.palmer@faa.gov.

(2) Service information identified in this AD that is not incorporated by reference is available at the addresses specified in paragraphs (k)(3) and (k)(4) of this AD.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Service Bulletin 757-27A0152, Revision 3, dated October 28, 2013.

(ii) Boeing Service Bulletin 757-27A0152, Revision 4, dated August 26, 2014.

(3) For Boeing service information identified in this AD, contact Boeing Commercial Airplanes, Attention: Data & Services Management, P. O. Box 3707, MC 2H-65, Seattle, WA 98124-2207; telephone 206-544-5000, extension 1; fax 206-766-5680; Internet https://www.myboeingfleet.com.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on April 3, 2015.
Jeffrey E. Duven,
Manager, Transport Airplane Directorate, Aircraft Certification Service.

[FR Doc. 2015-08407 Filed 4-17-15; 08:45 am]

BILLING CODE 4910-13-P